COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) and service(s) from the Procurement List that were furnished by nonprofit agencies employing persons who are blind or have other severe disabilities.

DATES: Date deleted from the Procurement List: May 23, 2021.

ADDRESSES: Committee for Purchase From People Who Are Blind or Severely Disabled, 1401 S. Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 3/19/2021, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

7510-01-664-8782—DAYMAX System, 2020 Calendar Pad, Type I

7510-01-664-8817—DAYMAX System, 2020, Calendar Pad, Type II

Designated Source of Supply: Anthony Wayne Rehabilitation Ctr for Handicapped and Blind, Inc., Fort Wayne, IN

Contracting Activity: GSA/FAS Admin SVCS Acquisition BR(2, New York, NY

Service(s)

Service Type: Publication File Maint f/NEPIS Website

Mandatory for: Environmental Protection Agency, Cincinnati, OH

Designated Source of Supply: Clovernook Center for the Blind and Visually Impaired, Cincinnati, OH

Contracting Activity: Environmental Protection Agency, US Environmental Protection Agency

Service Type: Administrative/General Support Services

Mandatory for: Department of the Army: 5111 Leesburg Pike, Room 538, Falls Church, VA

Designated Source of Supply: Columbia Lighthouse for the Blind, Washington, DC

Contracting Activity: Dept of the Army, W40M RHCO-Atlantic USAHCA

Service Type: Custodial and Grounds Maintenance Services

Mandatory for: Department of Veterans Affairs, US Veterans Outreach Center, Roanoke, VA Designated Source of Supply: Goodwill Industries of the Valleys, Inc., Roanoke, VA

Contracting Activity: Veterans Affairs, Department of, 246-Network Contracting Office 6

Service Type: Laundry Service

Mandatory for: Department of Veterans Affairs, VA Medical Center, Iowa City, IA Designated Source of Supply: Genesis Development, Jefferson, IA

Contracting Activity: Veterans Affairs, Department of, 636-Nebraska Western-Iowa

Michael R. Jurkowski,
Deputy Director, Business & PL Operations.

[FR Doc. 2021-08496 Filed 4-22-21; 8:45 am]

BILLING CODE 6353-01-P